COMMISSION ON CIVIL RIGHTS

Notice of Public Meeting of the Arizona Advisory Committee to Discuss and Vote on its School Equity Report and Plan Future Project

AGENCY: U.S. Commission on Civil Rights.

ACTION: Announcement of meeting.

SUMMARY: Notice is hereby given, pursuant to the provisions of the rules and regulations of the U.S. Commission on Civil Rights (Commission) and the Federal Advisory Committee Act (FACA) that a meeting of the Arizona Advisory Committee (Committee) to the Commission will be held on Tuesday, May 19, 2015, for the purpose of discussing and voting upon the committee report regarding school equity. The Committee will also discuss a plan for a potential project on police practices. The meeting will be held at Chicanos por la Causa, 1242 E. Washington Street, Suite 200, Phoenix, AZ 85034. It is scheduled to begin at 3:00 p.m. and adjourn at approximately 4:30 p.m.

Members of the public are entitled to make comments in the open period at the end of the meeting. Members of the public may also submit written comments. The comments must be received in the Western Regional Office of the Commission by June 19, 2015. The address is Western Regional Office, U.S. Commission on Civil Rights, 300 N. Los Angeles Street, Suite 2010, Los Angeles, CA 90012. Persons wishing to email their comments may do so by sending them to Angelica Trevino, Civil Rights Analyst, Western Regional Office, at atrevino@usccr.gov. Persons who desire additional information should contact the Western Regional Office, at (213) 894-3437, (or for hearing impaired TDD 913-551-1414), or by email to atrevino@usccr.gov. Hearing-impaired persons who will attend the meeting and require the services of a sign language interpreter should contact the Regional Office at least ten (10) working days before the scheduled date of the meeting.

Records and documents discussed during the meeting will be available for public viewing prior to and after the meeting at http://facadatabase.gov/committee/meetings.aspx?cid=235 and clicking on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda:

Introductions

Discussion and Vote on School Equity Report

Discussion of Future Project on Police Practices

Open Comment

Adjourment

DATES: Tuesday, May 19, 2015 from 3 p.m. to 4:30 p.m. PST

ADDRESSES: Chicanos por la Causa, 1242 E. Washington Street, Suite 200, Phoenix, AZ 85034.

FOR FURTHER INFORMATION CONTACT: Peter Minarik, DFO, at (213) 894-3437 or pminarik@usccr.gov.

Dated: April 23, 2015.
David Mussatt,
Chief, Regional Programs Coordination Unit.

[FR Doc. 2015-09827 Filed 4-27-15; 8:45 am]

BILLING CODE 6335-01-P